DEPARTMENT OF VETERANS AFFAIRS

38 CFR Parts 17, 51, 52 and 59

RIN 2900-AO90

Update to NFPA Standards, Incorporation by Reference

AGENCY: Department of Veterans Affairs.

ACTION: Proposed rule.

SUMMARY: The Department of Veterans Affairs (VA) proposes to amend its regulations incorporating by reference the National Fire Protection Association (NFPA) codes and standards. These codes and standards are referenced in VA regulations concerning community residential care facilities, contract facilities for certain outpatient and residential services, Medical Foster Homes, and State home facilities. To ensure the continued safety of veterans in these facilities, VA would continue to rely upon NFPA codes and standards for VA approval of such facilities. This proposed rulemaking would update our regulations to adhere to more recent NFPA codes and standards.

DATES: Comments must be received by VA on or before September 15, 2014.

ADDRESSES: Written comments may be submitted through http://www.regulations.gov; by mail or hand-delivery to the Director, Regulation Policy and Management (02REG), Department of Veterans Affairs, 810 Vermont Avenue NW., Room 1068, Washington, DC 20420; or by fax to (202) 273-9026. Comments should indicate that they are submitted in response to “RIN 2900-AO90—Update to NFPA Standards, Incorporation by Reference.” Copies of comments received will be available for public inspection in the Office of Regulation Policy and Management, Room 1068, between the hours of 8:00 a.m. and 4:30 p.m. Monday through Friday (except holidays). Please call (202) 461-4902 for an appointment. (This is not a toll-free number.) In addition, during the comment period, comments may be viewed online through the Federal Docket Management System (FDMS) at http://www.regulations.gov.

FOR FURTHER INFORMATION CONTACT: David Klein, Fire Protection Engineer, Department of Veterans Affairs, 810 Vermont Avenue NW., Washington, DC 20420, (202) 632-7888. (This is not a toll-free number.)

SUPPLEMENTARY INFORMATION: VA proposes to update its regulations incorporating NFPA codes and standards applicable to community residential care facilities, contract facilities for outpatient and residential treatment services for veterans with alcohol or drug dependence or abuse disabilities, Medical Foster Homes, and State home facilities. VA's regulations that govern these facilities require that these facilities meet certain provisions of the codes and standards published by NFPA. These codes and standards are reviewed and updated by NFPA on a 3-year cycle. In 38 CFR 17.1, VA currently incorporates by reference the NFPA codes and standards cited in §§ 17.63, 17.74, 17.81, and 17.82. VA also relies on NFPA codes and standards in 38 CFR 51.200, 52.200, and 59.130.

The NFPA is a leading advocate for fire prevention and is an authoritative source on public safety and emergency management. The NFPA codes and standards are developed in a process accredited by the American National Standards Institute (ANSI) and conform to the Office of Management and Budget (OMB) Circular A-119. It is important that VA rely upon the most current fire and life safety codes and standards to ensure a safe environment is provided and maintained for veterans. VA has elected to rely upon the codes and standards established by NFPA to provide consistency across the country. By adopting the most current editions of these codes and standards, VA works to ensure veterans reside and receive care in facilities that are safe; ensure there is one set of codes and standards for the design, renovation, and inspection of these facilities; and help maintain high levels of safety by following these codes and standards for community facilities used or approved by VA.

NFPA 101, Life Safety Code, is the primary source document that establishes the safety requirements for newly constructed and existing facilities. NFPA 101 is unique in that it provides a different set of requirements for the same type of facility based on whether the facility is to be newly constructed or already exists.

Chapter 2 of NFPA 101 references other ANSI-accredited, consensus-based codes and standards, including other NFPA Codes and Standards. The documents listed in Chapter 2 of NFPA 101 are considered part of the requirements of NFPA 101 only to the extent called for in other chapters of NFPA 101. For example, the inclusion of NFPA 13, Standard for the Installation of Sprinkler Systems, in Chapter 2 does not mean that all buildings must have sprinklers. Rather, where NFPA 101 requires buildings to be sprinkler protected, NFPA 13 is to be used for sprinkler installation.

NFPA 101 provides different requirements for new and existing construction because it recognizes that it may be impractical to continually upgrade existing installations as new editions of the codes and standards referenced in Chapter 2 are adopted. Accordingly, NFPA 101 includes a provision that existing facilities can continue in service even if they do not conform to an updated code or standard that is referenced in Chapter 2 as long as the lack of conformity does not present a serious hazard to the occupants. However, since some NFPA codes and standards are referenced within VA regulations that do not also reference this provision in Chapter 2, we propose to add a new paragraph (c) to § 17.1 that contains similar language to permit fire and safety specialists to determine when upgrades to existing facilities are necessary on a case-by-case basis.

NFPA 101 is updated on a 3-year cycle, and the citations to the codes and standards referenced in Chapter 2 are updated the same time. This proposed rulemaking would amend § 17.1 to reflect the current edition of NFPA 101, Life Safety Code, and the editions of the NFPA codes and standards that are cited in Chapter 2 of NFPA 101.

VA likewise relies on NFPA codes and standards in 38 CFR 51.200, 52.200, and 59.130, and we propose to amend these sections to reflect the current editions of NFPA 101, Life Safety Code, and NFPA 99, Health Care Facilities Code.

The NFPA codes and standards that have been updated since we published the current 38 CFR 17.1 are NFPA 101, Life Safety Code (2009 edition); NFPA 25, Standard for the Inspection, Testing, and Maintenance of Water-Based Fire Protection Systems (2008 edition); NFPA 30, Flammable and Combustible Liquids Code (2008 edition); and NFPA 720, Standard for the Installation of Carbon Monoxide (CO) Detection and Warning Equipment (2009 edition). The NFPA codes and standards updated from the editions referenced in current §§ 51.200 and 59.130 are NFPA 101 (2009 edition) and NFPA 99, Standard for Health Care Facilities (2005). The NFPA codes and standards updated from the edition referenced in current 38 CFR 52.200 is NFPA 101, Life Safety Code (2000 edition). This proposed rulemaking would update the references to these NFPA codes and standards in the cited VA regulations to reflect the most recent editions cited in NFPA 101, Life Safety Code (2012 edition). We would also update cited references within VA regulations to be consistent with the current NFPA codes and standards. In some cases reorganization of material in the NFPA codes and standards, without change in substance, has affected the citation within VA regulations, and we make minor amendments to reflect these changes. Regarding the citations to the NFPA codes in 38 CFR 17.74(g)(1), NFPA has moved the information previously in paragraph 24.3.4.1 to paragraph 24.3.4.1.1, the information previously in paragraph 24.3.4.2 to paragraph 24.3.4.1.2, and the information previously in paragraph 24.3.4.3 to paragraph 24.3.4.1.3. Similarly, paragraph 3.3.32.5 of NFPA 101, as referenced in 38 CFR 59.130, has been relocated to paragraph 3.3.36.5. As the NFPA codes and standards are updated in the future, we will consider their adoption by VA and, if we decide to adopt the newer version, we will publish a rulemaking amending VA's regulations to reference the new version.

The provisions of NFPA 25 and 720 used in VA's regulations are generally relied on to establish the requirements for the inspection, testing, and maintenance of already installed existing systems, and the majority of the changes in the updated editions are relatively minor with respect to inspection, testing, and maintenance. We believe that compliance with these minor revisions would not be difficult for the affected facilities.

NFPA 99 went through a major revision from the 2005 edition and was re-written to be more consistent with other NFPA standards, establishing requirements based on risk, rather than occupancy for the new 2012 edition. Revising fire safety standards to provide for safety standards based on the risk of a critical condition rather than earlier models that looked at the probability of such conditions has become the international standard. However, the requirements of NFPA 99 that are to be applied to existing health care facilities were effectively unchanged from the previous edition.

The revisions to NFPA 101, Life Safety Code, contain changes that VA believes would allow health care facilities to make desirable alterations (previously not permitted by NFPA 101) to benefit veterans. Other changes are not significant and we do not believe that it would be difficult for affected facilities to comply with these changes. Twenty changes to the Life Safety Code are highlighted below for health care facilities as well as other types of facilities to alert affected entities to them.

New one- and two-family dwellings containing fuel-burning appliances (such as gas stoves, gas heaters, gas clothes dryers or gas hot water heaters, fireplaces, and wood or oil stoves) and new one- and two-family dwellings with communicating attached garages that meet certain criteria, are now required to have carbon monoxide detectors installed on each occupiable level and near sleeping rooms (NFPA 101, Life Safety Code, Chapter 24, One- and Two-Family Dwellings, section 24.3.4.2).

Roofed porches, decks, and balconies in new, small residential board and care facilities (defined in NFPA 101 (section 32.2.1.1.1) as occupancies providing sleeping accommodations for not more than 16 residents) must now be sprinkler protected when sprinkler protection is provided in accordance with either NFPA 13R, Standard for the Installation of Sprinkler Systems in Residential Occupancies up to and Including Four Stories in Height, or in accordance with NFPA 13D, Standard for the Installation of Sprinkler Systems in One- and Two-Family Dwellings and Manufactured Homes (NFPA 101, Life Safety Code, Chapter 32, New Residential Board and Care Occupancies, sections 32.2.3.5.3.1 and 32.2.3.5.3.2).

When automatic sprinklers are installed, there are also new requirements for protecting attics of existing board and care facilities that include the option of either heat detection, sprinkler protection, non- or limited-combustible construction, or fire-retardant treated wood (NFPA 101, Life Safety Code, Chapter 33, Existing Residential Board and Care Occupancies, sections 33.2.3.5.7 and 33.3.3.5.4). VA would accept the installation of heat alarm(s) connected to the existing smoke alarms to meet the intent of the requirement for heat detection in the attic, based on the NFPA Board and Care Technical Committee proposed revisions to these requirements for the 2015 edition of NFPA 101.

If an existing fire alarm system, in existing large board and care facilities (defined in NFPA 101 (section 33.3.1.1.2) as those having sleeping accommodations for more than 16 residents), does not automatically notify the fire department, provisions must be made for such immediate notification. Further, when an existing fire alarm system is replaced or a new system is installed, automatic notification of emergency services must be included (NFPA 101, Life Safety Code, Chapter 33, Existing Residential Board and Care Occupancies, section 33.3.3.4.6).

New draperies, curtains, and other loosely hanging furnishing or decorations other than in common areas (e.g., dining rooms, activity rooms, and other areas outside of resident sleeping rooms or suites) are no longer regulated when located in a space that is sprinkler protected in existing board and care facilities, (NFPA 101, Life Safety Code, Chapter 33, Existing Residential Board and Care Occupancies, section 33.7.5.1.2).

If a facility elects to change to a slower evacuation capability, the facility is required to have sprinkler protection throughout and comply with the standards for the slower evacuation, or comply with the requirements for new construction (NFPA 101, Life Safety Code, Chapter 33, Existing Residential Board and Care Occupancies, section 33.1.8). To accommodate the limited mobility of an increasing population of patients who, because of physical or mental disabilities, have become more feeble and are unable to cooperate in an emergency evacuation, large residential board and care facilities may choose to adopt revised safety standards and change the facility's current evacuation standards of prompt or slow to the impractical standard or comply with the standards for limited care facilities in Chapter 19 of NFPA 101. In existing large board and care facilities where evacuation capability is classified as impractical, hazardous areas must be separated with smoke partitions (NFPA 101, Life Safety Code, Chapter 33, Existing Residential Board and Care Occupancies, section 33.3.3.2.3), a minimum exit corridor width of 44 inches is required (section 33.3.2.3.3), emergency lighting is required (section 33.3.2.9), and the building must be protected throughout by an automatic sprinkler system (section 33.3.3.5.2).

NFPA 101 has been revised to clarify that the treatment of inpatients that are capable of self-preservation is permitted in facilities classified as other than a health care occupancy that are contiguous to health care occupancies. (NFPA 101, Life Safety Code, Chapter 19, Existing Health Care Occupancies, section 19.1.3.4.2). When safety conditions identified in the standards are met to manage emergencies, preserve safe egress and allow for access to building service and fire protection equipment in the event of emergency, items such as crash carts, emergency supply carts, patient lifts, transportation equipment, and, certain wheeled items may be placed in corridors of health care facilities (NFPA 101, Life Safety Code, Chapter 19, Existing Health Care Occupancies, section 19.2.3.4). Patient suites requiring two exit doors may now have a door that leads directly to an exit stair, exit passageway, or to the exterior (NFPA 101, Life Safety Code, Chapter 19, Existing Health Care Occupancies, section 19.2.5.7.2.1). Allowable sleeping suite sizes have been increased from 7,500 to 10,000 square feet when certain requirements are met (NFPA 101, Life Safety Code, Chapter 19, Existing Health Care Occupancies, section 19.2.5.7.2.3). There are new rules for the use of cooking equipment to prepare meals for 30 persons or less within a smoke compartment (NFPA 101, Life Safety Code, Chapter 19, Existing Health Care Occupancies, section 19.3.2.5.3), and direct-vent gas fireplaces are now permitted inside a smoke compartment containing sleeping areas when certain requirements are met (NFPA 101, Life Safety Code, Chapter 19, Existing Health Care Occupancies, section 19.5.2.3).

Other Changes to 38 CFR 17.74

Current 38 CFR 17.74(o)(2) reads where, within NFPA 30, the definition of a safety can is found. The NFPA codes and standards have not changed the information or requirements for a safety can, however, the paragraph that contains the definition of a safety can has changed from 3.3.44 to 3.3.48. It is not uncommon for NFPA to make minor reorganization changes to their guidance documents. In order to avoid the necessity of revising our regulations each time a non-significant change of this nature is made to the underlying codes and standards, we propose eliminating the specific section reference while retaining the safety requirements to which the guidance refers. We do not anticipate this would be burdensome as the document itself is indexed and searchable.

Approval of Incorporations by Reference

The Office of the Federal Register, in accordance with 5 U.S.C. 552(a) and 1 CFR part 51, approved our incorporation by reference of previous editions of NFPA codes and standards into current regulations. We propose to amend our regulations to require facilities seeking VA approval to meet the applicable requirements of the 2012 edition of NFPA 101, Life Safety Code, and the editions of the NFPA codes and standards that are cited in Chapter 2 of NFPA 101. These changes merely reflect updates to the standards that are currently incorporated by reference. This proposed action is necessary to ensure that facilities meet current industry-wide standards regarding fire safety. We are not aware of any significant changes from the previous editions to the current editions. Therefore, we are requesting that the Office of the Federal Register approve our incorporation by reference of updated NFPA 101.

Additionally, we are requesting that the Office of the Federal Register approve the following standards published by the National Fire Protection Association: NFPA 25, Standard for the Inspection, Testing, and Maintenance of Water-Based Fire Protection Systems (2011 edition); NFPA 30, Flammable and Combustible Liquids Code (2012 edition); NFPA 720, Standard for the Installation of Carbon Monoxide (CO) Detection and Warning Equipment (2012 edition); and NFPA 99, Health Care Facilities Code (2012 edition). Earlier editions of NFPA 25, NFPA 30, and NFPA 720 are incorporated by reference in current part 17. Current references in parts 51 and 59 incorporate by reference the 2005 edition of NFPA 99. VA believes that it is in the best interest of veterans to apply the most up to date fire safety codes to the greatest extent practicable, and this proposed rule addresses that objective. The materials for which we are seeking incorporation by reference are available for inspection at the ANSI Incorporation by Reference (IBR) Portal, http://ibr.ansi.org. These materials are also available at the National Archives and Records Administration (NARA). For information on the availability of these materials at NARA, call (202) 741-6030, or go to: https://standards.gov/sibr/query/index.cfm?fuseaction=rsibr.regulatory_sibr. Copies may be obtained from the National Fire Protection Association, 1 Batterymarch Park, Quincy, MA 02269. (For ordering information, call toll-free 1-800-344-3555.)

Effect of Rulemaking

The Code of Federal Regulations, as proposed to be revised by this proposed rulemaking, would represent the exclusive legal authority on this subject. No contrary rules or procedures would be authorized. All VA guidance would be read to conform with this proposed rulemaking if possible or, if not possible, such guidance would be superseded by this rulemaking.

Paperwork Reduction Act

This proposed rule contains no provisions constituting a collection of information under the Paperwork Reduction Act of 1995 (44 U.S.C. 3501-3521).

Regulatory Flexibility Act

The Acting Secretary hereby certifies that this proposed rule would not have a significant economic impact on a substantial number of small entities as they are defined in the Regulatory Flexibility Act, 5 U.S.C. 601-612. This proposed rule would update current fire safety standards and would not require more than a modest capital investment on the part of affected entities. The changes to § 17.1 would likely affect between 50 and 100 of the 1,293 community residential care facilities approved for referral of veterans under the regulations. Medical Foster Homes are small entities, providing between 1 and 3 resident beds to veterans in each Medical Foster Home. The changes to § 17.74 would likely affect fewer than 10 of the 561 Medical Foster Homes approved by VA for referral under the regulations. Any additional costs for compliance with the proposed rule incurred by either community residential care facilities or Medical Foster Homes would constitute an inconsequential amount of the operational costs of such facilities. Where modification is anticipated, such as adding heat detection to unused attic space, the impact would be minimal because the costs to comply with the new requirements range from $100.00 to $500.00 dollars, which includes labor costs. In many cases, the adoption of the current NFPA codes and standards would provide options that are less restrictive than the prior NFPA codes and standards. The changes to §§ 17.81 and 17.82 would affect only small entities; however, most, if not all, of these entities are already in compliance with the current NFPA codes and therefore should not be significantly impacted by this rule. The changes to parts 51, 52, and 59 would affect State homes. The State homes that would be subject to this rulemaking are State government entities under the control of State governments. All State homes are owned, operated and managed by State governments except for a small number operated by entities under contract with State governments. These contractors are not small entities. On this basis, the Acting Secretary certifies that the adoption of this proposed rule would not have a significant economic impact on a substantial number of small entities as they are defined in the Regulatory Flexibility Act, 5 U.S.C. 601-612. Therefore, under 5 U.S.C. 605(b), this rulemaking is exempt from the initial and final regulatory flexibility analysis requirements of 5 U.S.C. 603 and 604.

Executive Orders 12866 and 13563

Executive Orders 12866 and 13563 direct agencies to assess all costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 12866 (Regulatory Planning and Review) defines a “significant regulatory action,” requiring review by OMB unless OMB waives such review as “any regulatory action that is likely to result in a rule that may: (1) Have an annual effect on the economy of $100 million or more or adversely affect in a material way the economy, a sector of the economy, productivity, competition, jobs, the environment, public health or safety, or State, local, or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in the Executive Order.”

The economic, interagency, budgetary, legal, and policy implications of this regulatory action have been examined, and it has been determined not to be a significant regulatory action under Executive Order 12866. VA's impact analysis can be found as a supporting document at http://www.regulations.gov, usually within 48 hours after the rulemaking document is published. Additionally, a copy of the rulemaking and its impact analysis are available on VA's Web site at http://www1.va.gov/orpm/, by following the link for “VA Regulations Published.”

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any one year. This proposed rule would have no such effect on State, local, and tribal governments, or on the private sector.

Catalog of Federal Domestic Assistance

The Catalog of Federal Domestic Assistance numbers and titles for the programs affected by this document are 64.005, Grants to States for Construction of State Home Facilities; 64.007, Blind Rehabilitation Centers; 64.008, Veterans Domiciliary Care; 64.009, Veterans Medical Care Benefits; 64.010, Veterans Nursing Home Care; 64.011, Veterans Dental Care; 64.012, Veterans Prescription Service; 64.013, Veterans Prosthetic Appliances; 64.014, Veterans State Domiciliary Care; 64.015, Veterans State Nursing Home Care; 64.016, Veterans State Hospital Care; 64.018, Sharing Specialized Medical Resources; 64.019, Veterans Rehabilitation Alcohol and Drug Dependence; 64.022, Veterans Home Based Primary Care.

Signing Authority

The Acting Secretary of Veterans Affairs, or designee, approved this document and authorized the undersigned to sign and submit the document to the Office of the Federal Register for publication electronically as an official document of the Department of Veterans Affairs. Jose D. Riojas, Chief of Staff, Department of Veterans Affairs, approved this document on June 17, 2014, for publication.

List of Subjects

38 CFR Part 17

Administrative practice and procedure, Alcohol abuse, Alcoholism, Claims, Day care, Dental health, Drug abuse, Foreign relations, Government contracts, Grant programs—health, Grant programs—veterans, Health care, Health facilities, Health professions, Health records, Homeless, Medical and dental schools, Medical devices, Medical research, Mental health programs, Nursing homes, Philippines, Reporting and recordkeeping requirements, Scholarships and fellowships, Travel and transportation expenses, Veterans.

38 CFR Part 51

Administrative practice and procedure, Claims, Day care, Dental health, Government contracts, Grant programs—health, Grant programs—veterans, Health care, Health facilities, Health professions, Health records, Mental health programs, Nursing homes, Reporting and recordkeeping requirements, Travel and transportation expenses, Veterans.

38 CFR Part 52

Administrative practice and procedure, Claims, Day care, Dental health, Government contracts, Grant programs—health, Grant programs—veterans, Health care, Health facilities, Health professions, Health records, Mental health programs, Nursing homes, Reporting and recordkeeping requirements, Travel and transportation expenses, Veterans.

38 CFR Part 59

Administrative practice and procedure, Alcohol abuse, Alcoholism, Claims, Day care, Dental health, Drug abuse, Foreign relations, Government contracts, Grant programs—health, Grant programs—veterans, Health care, Health facilities, Health professions, Health records, Homeless, Medical and dental schools, Medical devices, Medical research, Mental health programs, Nursing homes, Reporting and recordkeeping requirements, Travel and transportation expenses, Veterans.

Dated: July 9, 2014.
William F. Russo,
Deputy Director, Office of Regulation Policy & Management, Office of the General Counsel, U.S. Department of Veterans Affairs.

For the reasons set forth in this rulemaking, VA proposes to amend 38 CFR parts 17, 51, 52, and 59 as follows:

PART 17—MEDICAL

1. The authority citation for part 17 continues to read as follows:

Authority: 38 U.S.C. 501, and as noted in specific sections.

2. Amend § 17.1 as follows:

a. In paragraph (b)(2), remove “NFPA 101, Life Safety Code (2009 edition)” and add in its place “NFPA 101, Life Safety Code (2012 edition)”.

b. In paragraph (b)(7), remove “NFPA 25, Standard for the Inspection, Testing, and Maintenance of Water-Based Fire Protection Systems (2008 edition)” and add in its place “NFPA 25, Standard for the Inspection, Testing, and Maintenance of Water-Based Fire Protection Systems (2011 edition)”.

c. In paragraph (b)(8), remove “NFPA 30, Flammable and Combustible Liquids Code (2008 edition)” and add in its place “NFPA 30, Flammable and Combustible Liquids Code (2012 edition)”.

d. In paragraph (b)(10), remove “NFPA 720, Standard for the Installation of Carbon Monoxide (CO) Detection and Warning Equipment (2009 edition)” and add in its place “NFPA 720, Standard for the Installation of Carbon Monoxide (CO) Detection and Warning Equipment (2012 edition)”.

e. Add paragraph (c).

The addition reads as follows:

§ 17.1 Incorporation by reference.

* * * * *

(c) Existing buildings or installations that do not comply with the installation provisions of the codes or standards referenced in (b)(1), and (b)(3) through (b)(10) of this section shall be permitted to be continued in service, provided that the lack of conformity with these codes and standards does not present a serious hazard to the occupants.

§ 17.74 [Amended]

3. Amend § 17.74 as follows:

a. In paragraph (g)(1), remove “sections 24.3.4.1 or 24.3.4.2 of NFPA 101 (incorporated by reference, see § 17.1); section 24.3.4.3 of NFPA 101” and add in its place “sections 24.3.4.1.1 or 24.3.4.1.2 of NFPA 101 (incorporated by reference, see § 17.1); section 24.3.4.1.3 of NFPA 101”.

b. In paragraph (o)(2), remove “section 3.3.44 of NFPA 30” and add in its place “NFPA 30”.

PART 51—PER DIEM FOR NURSING HOME CARE OF VETERANS IN STATE HOMES

4. The authority citation for part 51 continues to read as follows:

Authority: 38 U.S.C. 101, 501, 1710, 1720, 1741-1743, and as stated in specific sections.

§ 51.200 [Amended]

5. Amend § 51.200 as follows:

a. Remove all references to “NFPA 101, Life Safety Code (2009 edition)” and add, in each place, “NFPA 101, Life Safety Code (2012 edition)”.

b. Remove all references to “NFPA 99, Standard for Health Care Facilities (2005 edition)” and add, in each place, “Health Care Facilities Code (2012 edition)”.

PART 52—PER DIEM FOR ADULT DAY HEALTH CARE OF VETERANS IN STATE HOMES

6. The authority citation for part 52 continues to read as follows:

Authority: 38 U.S.C. 101, 501, 1741-1743, unless otherwise noted.

§ 52.200 [Amended]

7. Amend paragraph § 52.200(a) by removing “NFPA 101, Life Safety Code (2000 edition)” and add in its place “NFPA 101, Life Safety Code (2012 edition)”.

PART 59—GRANTS TO STATES FOR CONSTRUCTION OR ACQUISITION OF STATE HOMES

8. The authority citation for part 59 continues to read as follows:

Authority: 38 U.S.C. 101, 501, 1710, 1742, 8105, 8131-8137.

§ 59.130 [Amended]

9. Amend § 59.130, in paragraph (d)(1), by removing “NFPA 101, Life Safety Code (2009 edition)” and adding in its place “NFPA 101, Life Safety Code (2012 edition)”, by removing “paragraph 3.3.32.5” and adding in its place “paragraph 3.3.36.5”, and by removing “NFPA 99, Standard for Health Care Facilities (2005 edition)” and adding in its place “Health Care Facilities Code (2012 edition)”.

[FR Doc. 2014-16414 Filed 7-14-14; 8:45 am]

BILLING CODE 8320-01-P